DEPARTMENT OF HEALTH AND HUMAN SERVICES

Office of Inspector General

Program Exclusions: March & April 2006

AGENCY: Office of Inspector General, HHS.

ACTION: Notice of program exclusions.

During the months of March & April 2006, the HHS

Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject, city, state | Effective date
Program-Related Convictions
Allen, Edward | 5/18/2006
Fresno, CA
Amico, Richard | 5/18/2006
Danbury, CT
Andrews, Raleigh | 4/20/2006
Florence, SC
Bartko, Douglas | 4/20/2006
Wasilla, AK
Bates, Jeffrey | 4/20/2006
Courtland, OH
Bengochea, Alberto | 4/20/2006
Miami, FL
Betancourt, Lazaro | 5/18/2006
Miami, FL
Bharne, Dilip | 5/18/2006
Little Neck, NY
Blue, Victoria | 4/20/2006
Seattle, WA
Borges, Alfredo | 5/18/2006
Miami, FL
Buitrago, Julio | 5/18/2006
Miami, FL
Campbell, Arthur | 4/20/2006
Milwaukee, WI
Canepa, Isabel | 5/18/2006
Coleman, FL
Castro, Mirta | 4/20/2006
Hialeah, FL
Chavez, Eleazar | 5/18/2006
Costa Mesa, CA
Chi, Ching | 4/20/2006
Hacienda Heights, CA
Clark, Sally | 4/20/2006
Lockport, NY
Coleman, Steven | 4/20/2006
Malcom, IA
Crenshaw, Leonard | 4/20/2006
Rosharon, TX
Davis, Carolyn | 5/18/2006
Lexington, KY
Davis, Otis | 5/18/2006
Lexington, KY
Denison, Kay | 4/20/2006
Northport, WA
Denney, Cheryl | 4/20/2006
Piqua, OH
Duke Medical Clinic, Inc | 4/20/2006
El Monte, CA
Dunn, George | 4/20/2006
Raiford, FL
Ellis, Carri | 4/20/2006
Kansas City, MO
Escoto, Eulalia | 4/20/2006
Ontario, CA
Evoy, Lisa | 5/18/2006
Bellingham, WA
Family Medical Management Services, Inc | 4/20/2006
Portland, OR
Felix, Andrew | 4/20/2006
Fayetteville, GA
Flynn, Jennifer | 5/18/2006
Rock Hill, SC
Forward, Elizabeth | 5/18/2006
Youngstown, OH
Fuentes, Orlando | 5/18/2006
Pensacola, FL
Garrido, Jose | 5/18/2006
Hialeah, FL
Gazarov, Georgi | 5/18/2006
Glendale, CA
Georges, Junie | 5/18/2006
Oakland Park, FL
Gonzalez, Carlos | 5/18/2006
Tallahassee, FL
Gonzalez, Miraidy | 5/18/2006
Tallahassee, FL
Guerra, Isabel | 5/18/2006
Coleman, FL
Hamilton, Donna | 4/20/2006
Tallahassee, FL
Hearne, Charles | 5/18/2006
Fordyce, AR
Hechavarria, Mirta | 4/20/2006
Miami, FL
Hermanson, Paul | 4/20/2006
Yankton, SD
Hill, Jacqueline | 5/18/2006
Los Angeles, CA
Huynh, Toan | 4/20/2006
Poway, CA
Jacob, Saramma | 5/18/2006
Rochester, NY
Keffeler, Carlee | 5/18/2006
Heavener, OK
Koca, Toni | 4/20/2006
Chula Vista, CA
Koch, Johnna | 4/20/2006
Galloway, OH
Lang, Scott | 4/20/2006
Montezuma, IA
Lawrence, Willie | 5/18/2006
Belle Glade, FL
Ledford, Susan | 5/18/2006
Simpsonville, SC
Mari, Michel | 4/20/2006
Hialeah Gardens, FL
Marrero, Nery | 4/20/2006
Miami, FL
Martinez, Daniel | 5/18/2006
Miami, FL
Martinez, Edith | 5/18/2006
Hialeah, FL
Martinez, Maria | 4/20/2006
South Gate, CA
Martinez, Ruben | 5/18/2006
Miami, FL
Mathews, Madonna | 5/18/2006
Ft Mill, SC
Mauldin, Natalie | 4/20/2006
Warrensville Hts, OH
Mcgee, Vickie | 4/20/2006
Water Valley, MS
Medina, Pura | 5/18/2006
Tallahassee, FL
Meier, Molly | 4/20/2006
Fort Worth, TX
Mercado, Nydia | 4/20/2006
Los Angeles, CA
Mittler, Eric | 5/18/2006
Miami, FL
Mojica, David | 4/20/2006
Lamesa, TX
Morris, Lionel | 4/20/2006
Jeanerette, LA
Nguyen, Nick | 5/18/2006
Taft, CA
Nina Transport, Inc | 4/20/2006
Milwaukee, WI
Okorn, Atim | 4/20/2006
Spokane, WA
Perez, Gilda | 4/20/2006
Opa Locka, FL
Perot, Philip | 4/20/2006
Ardmore, OK
Phillips, Chrystal | 4/20/2006
Oklahoma City, OK
Pina, Antonio | 5/18/2006
Tampa, FL
Porties, Evelyn | 4/20/2006
Henderson, NV
Posey, Erin | 4/20/2006
Chelan, WA
Ramharrack, Mona | 5/18/2006
Pompano Beach, FL
Ramos, Adriana | 5/18/2006
Marianna, FL
Ramos, Daniel | 5/18/2006
Atlanta, GA
Reed, Loatha | 4/20/2006
Fresno, CA
Richardson, Kevin | 5/18/2006
Punta Gorda, FL
Richters, Krista | 4/20/2006
Hoquiam, WA
Risenmay, Leanna | 5/18/2006
Eagle Mountain, UT
Robinson, Bernice | 5/18/2006
Grants Pass, OR
Rodgers, Shedrick | 4/20/2006
Jackson, MS
Rolle, Leon | 5/18/2006
Miami Shore, FL
Ross, Anthony | 5/18/2006
Cordova, TN
Rubensteen, Lorry | 4/20/2006
Hollywood, FL
Scherr, Jeffrey | 4/20/2006
San Anselmo, CA
Sedano, Alexander | 4/20/2006
Pico Rivera, CA
Silva, Eugenio | 5/18/2006
Miami, FL
Smith, Pamela | 4/20/2006
Beaumont, TX
Smith, Stephanie | 5/18/2006
Coleman, FL
Stavitski, Michael | 4/20/2006
Wall, NJ
Strugatsky, Igor | 4/20/2006
San Diego, CA
Swofford, Crystal | 5/18/2000
Spokane, WA 6
Tessier, Chelsey | 5/18/2006
Hooksett, NH
Torossian, Aram | 4/20/2006
Burbank, CA
Tumey, Daniel | 5/18/2006
Danville, KY
Umanoff, Leonard | 5/18/2006
Staten Island, NY
Valdes, Meilin | 5/18/2006
Tallahassee, FL
Veliz, Marcial | 4/20/2006
Pico Rivera, CA
White Jr, Lyman | 4/20/2006
Oakdale, LA
White, Dana | 4/20/2006
Memphis, TN
Yeghishian, Norik | 4/20/2006
Glendale, CA
Zamora, Edgar | 5/18/2006
Miami, FL
Felony Conviction for Health Care Fraud
Acquaire, Florence | 4/20/2006
Clinton, NJ
Alman, Lisa | 4/20/2006
Loveland, CO
Aune, Phyllis | 4/20/2006
Yankton, SD
Barnes, Tina | 4/20/2006
Largo, FL
Bodnar, Matthew | 5/18/2006
Toronto, OH
Bonuccelli, Linda | 4/20/2006
Portland, OR
Camp, Rick | 4/20/2006
Montgomery, AL
Clark, Jamar | 4/20/2006
Carmichael, CA
Cobey, John | 5/18/2006
Cape Coral, FL
Cole, Susan | 5/18/2006
Kennebunk, ME
Cote, Jill | 5/18/2006
Springvale, ME
Fernandez, Dalia | 5/18/2006
Miami, FL
Flores, Frances | 4/20/2006
Loveland, CO
Fordham, Inc, DBA Duncan Drugs | 4/20/2006
Augusta, GA
Fordham, John | 4/20/2006
Montgomery, AL
Garber, Philip | 5/18/2006
Manchester, KY
Imhoff, Shawn | 5/18/2006
Biloxi, MS
Jordan, Lashema | 4/20/2006
Goodyear, AZ
Krajcir, Tirzah | 4/20/2006
Johnstown, NY
Kutler, Stephen | 5/18/2006
Carmichael, CA
Long, Matthew | 4/20/2006
Montgomery, AL
Mcelroy, Erica | 4/20/2006
Columbus, OH
Mcleod, Dwain | 5/18/2006
Orting, WA
Means, Meriam | 5/18/2006
Minneapolis, MN
Misuraca, Betsy | 5/18/2006
Foresthill, CA
Monnin, Angela | 5/18/2006
Kettering, OH
Nalugon, Napoleon | 5/18/2006
Stockton, CA
Ravago, Cheryl | 4/20/2006
Aptos, CA
Reed, Pauline | 4/20/2006
Whitehouse, OH
Ritchie, Pamela | 5/18/2006
Rockville, IN
Robertson, Michele | 5/18/2006
Vancouver, WA
Rubin, Mark | 4/20/2006
Southampton, PA
Schultz, Robin | 4/20/2006
Pinellas Park, FL
Shamrock, Marlene | 4/20/2006
Cortland, OH
Simpkins, Theresa | 4/20/2006
Gulfport, FL
Stone, Frankie | 4/20/2006
Woodlake, CA
Thompson, Blanche | 4/20/2006
Pineville, LA
Ulsrud, Kathleen | 4/20/2006
Ft Lauderdale, FL
Vedaa, Julie | 4/20/2006
Lakewood, OH
Wagner, Alan | 4/20/2006
Riverside, OH
Wetsch, Mark | 4/20/2006
Yankton, SD
Whittecar, Bruce | 4/20/2006
Grand Rapids, MI
Williams, Robin | 4/20/2006
Estill, SC
Felony Control Substance Conviction
Akers, Rava | 4/20/2006
Ft Blackmore, VA
Ayres, Kathryn | 4/20/2006
Chipley, FL
Baca, Leo | 5/18/2006
Hood River, OR
Bishop, Margaret | 4/20/2006
Savannah, GA
Brady, Rennye | 4/20/2006
Bryan, TX
Carter, Wanda | 4/20/2006
Franklin, TN
Chism, Jerry | 4/20/2006
Jamestown, TN
Clark, Kim | 5/18/2006
Spring Hill, FL
Cleveland, Stephanie | 5/18/2006
Spring Valley, CA
Deleon, Rosalinda | 4/20/2006
San Antonio, TX
Duenas, Vincent | 4/20/2006
Barrigada Heights, GU
Ferst, Kenneth | 5/18/2006
New York, NY
Glasgow, Robert | 4/20/2006
Bristol, TN
Grable, Paige | 5/18/2006
Cleveland, TN
Gray, Jeffrey | 4/20/2006
Napa, CA
Haag, Catherine | 4/20/2006
Middletown, OH
Haddad, Charlie | 5/18/2006
N Olmstead, OH
Hopkins, Pauline | 4/20/2006
Del Rio, TX
Huffman, Melinda | 5/18/2006
Tyler, TX
Lancaster, Carol | 4/20/2006
Ogden, UT
Pallatt, Melanie | 4/20/2006
Kissimmee, FL
Shadrick, Sharon | 5/18/2006
Erwin, TN
Taylor, Steven | 4/20/2006
Rancho Cucamonga, CA
Winkley, Susan | 4/20/2006
Burt, NY
Patient Abuse/Neglect Convictions
Arceneaux, Kevin | 4/20/2006
Huntsville, TX
Barnett, Kimberly | 5/18/2006
Freeport, FL
Benjamin, Larry | 5/18/2006
Sumter, SC
Boric, Shari | 4/20/2006
Fairfield, OH
Cartwright, Louis | 5/18/2006
Dunsmuir, CA
Chakma, Hitoishi | 4/20/2006
Highland, CA
Cheung, Alan | 4/20/2006
New York, NY
Clarke, Shaunda | 4/20/2006
Amityville, NY
Clay, Chad | 4/20/2006
Delphos, OH
Cobacha, Evangeline | 5/18/2006
Spring Valley, CA
Coleman, James | 4/20/2006
Laurel, MS
Delgado, Carla | 5/18/2006
Janesville, CA
Erickson, Donald | 5/18/2006
Panama, NY
Fakuade, Phyllis | 5/18/2006
Baltimore, MD
Frey, Thomas | 4/20/2006
Grand Isle, VT
George, Clay | 4/20/2006
Canon City, CO
Giobbi, Renee | 4/20/2006
Portland, ME
Grant, Anthony | 4/20/2006
Olympia, WA
Grooms, Natasha | 5/18/2006
Rochester, NY
Grotti, Lydia | 4/20/2006
Midland, TX
Hill, Jay | 5/18/2006
Toledo, OH
Hood-Henry, Robin | 5/18/2006
Rochester, NY
Jones, Sheldon | 5/18/2006
Burgin, KY
Keita, Modibo | 4/20/2006
Washington, DC
Kiarie, Patrick | 4/20/2006
Baltimore, MD
Kornblatt, Steven | 5/18/2006
East Northport, NY
Kyyitan, Delmar | 5/18/2006
Buckeye, AZ
Lewis, Antionette | 4/20/2006
Waycross, GA
Lim, Jaime | 5/18/2006
Seattle, WA
Lovell, Steven | 4/20/2006
Newport Beach, CA
Macfarlane, Terry | 5/18/2006
Newport Beach, CA
Mairidith, Lenora | 4/20/2006
Tupelo, MS
Mayes, Rhonda | 5/18/2006
Nashville, TN
Mays, Quiana | 5/18/2006
Newburgh, NY
Mckinley, Alfreda | 5/18/2006
Washington, DC
Mcrae, Chanel | 4/20/2006
Richland, NJ
Megaffin, Bernard | 4/20/2006
Pratt, KS
Milch, Eli | 4/20/2006
New York, NY
Minard, Melanie | 5/18/2006
Windsor, VT
Mitchell, Della | 4/20/2006
Rome, GA
Oglesbee, Megan | 4/20/2006
Keyser, WV
Okafor, Augustine | 4/20/2006
Baltimore, MD
Patel, Sanjay | 4/20/2006
Ardsley, NY
Peaslee, Jody | 5/18/2006
Sheldon, VT
Perry, Sherry | 5/18/2006
Waterville, ME
Puma, Virginia | 5/18/2006
Aiea, HI
Ravanera, Rodolfo | 5/18/2006
Oakland, CA
Rivera, Maria | 5/18/2006
Rochester, NY
Rucyamuzi, Kenny | 4/20/2006
Hyattsville, MD
Salibay, Bernardo | 4/20/2006
Tempe, AZ
Scott, Thomas | 5/18/2006
Woodbine, GA
Smoot, Weldon | 4/20/2006
London, OH
Sutcliffe, Richard | 5/18/2006
Mercer Island, WA
Teapole, Sandra | 5/18/2006
Barberton, OH
Thomas, Felecia | 5/18/2006
Rochester, NY
Toth, Kimberly | 4/20/2006
Ventura, CA
Tucker, Vivian | 4/20/2006
Mt Vernon, OR
Washington, Teresa | 5/18/2006
Rochester, NY
Weekes, Lawrence | 4/20/2006
Reynoldsburg, OH
Weissfuss, Meaghan | 4/20/2006
Libertytown, MD
Whitman, Dixie | 5/18/2006
Rochester, NY
Wilkins, Wanda | 5/18/2006
Chicago, IL
Wright, Kristi | 5/18/2006
Beaverton, AL
Conviction for Health Care Fraud
Calderon, Wendy | 5/18/2006
Los Angeles, CA
Gates, Cynthia | 5/18/2006
Eatonville, WA
Getner, David | 5/18/2006
Iowa City, IA
Njie, Jabou | 4/20/2006
Lynnwood, WA
Salgado, Cristobal | 5/18/2006
Los Angeles, CA
License Revocation/Suspension/Surrendered
Abadjivor, Elizabeth | 4/20/2006
Winslow, AZ
Adams, Beverly | 5/18/2006
Sweetwater, TN
Alcantara, Roman | 4/20/2006
Gainesville, FL
Anderson, Lanette | 5/18/2006
Picayune, MS
Anderson, Paula Sue | 5/18/2006
Niceville, FL
Arterberry, John | 5/18/2006
Yucca Valley, CA
Ashe, April | 5/18/2006
Tampa, FL
Atwood, Christy | 5/18/2006
Rutland, VT
Bairos, Suzanne | 5/18/2006
Acushnet, MA
Banks, Anthony | 4/20/2006
St Louis, MO
Banks, Nicholas | 4/20/2006
Vancouver, WA
Baptiste, Maria | 5/18/2006
Cranston, RI
Barakat, Karen | 5/18/2006
Portland, ME
Barnett, Lora | 4/20/2006
Louisville, KY
Bayes, Linda | 4/20/2006
Ft Myers, FL
Beasley, Vanessa | 5/18/2006
Lexington, NC
Beck, Terri | 4/20/2006
Crossville, TN
Becker, Marie | 4/20/2006
Bennington, VT
Bennett, Betty | 4/20/2006
Grundy, VA
Bibb, Ronald | 4/20/2006
Danville, KY
Blackburn, Christy | 4/20/2006
Bowling Green, KY
Bleazard, Lindsey | 4/20/2006
Logan, UT
Bockhorst, Julie | 4/20/2006
Lecanto, FL
Bonner, Tracy | 4/20/2006
Memphis, TN
Bowman, David | 5/18/2006
Lowell, MA
Bowman, Krista | 4/20/2006
Debary, FL
Boyer, Theresa | 5/18/2006
Myakka City, FL
Bradford, Charlean | 5/18/2006
Lyon, MS
Brasher, Tracey | 5/18/2006
Nortonville, KY
Brewer, Lenotta | 4/20/2006
Dayton, OH
Brinkman, Lorie | 4/20/2006
Coffeyville, KS
Britto, John | 5/18/2006
East Providence, RI
Broadnax, Tamika | 4/20/2006
Phoenix, AZ
Brown, Ricky | 5/18/2006
Jackson, MS
Bryan, Lisa | 4/20/2006
Stockton, CA
Burnett, Angela | 5/18/2006
Old Hickory, TN
Burns, Larry | 4/20/2006
Pisgah, AL
Butler, Michael | 4/20/2006
St. Petersburg, FL
Butler, Michael | 5/18/2006
Kent, WA
Butler, Roxanne | 4/20/2006
North Lauderdale, FL
Carbone, Louis | 5/18/2006
East Falmouth, MA
Carden, Teresa | 4/20/2006
Vancouver, WA
Carrison, Alice | 4/20/2006
Boonville, CA
Carroll, Ann | 5/18/2006
Healdsburg, CA
Carter, Dorothy | 4/20/2006
Jackson, MS
Case, Susan | 4/20/2006
Vincennes, IN
Catelli, William | 5/18/2006
Kennewick, WA
Caverly, Victoria | 4/20/2006
Spring Hill, FL
Chadda, Ropinder | 5/18/2006
Woodland Hills, CA
Chambliss, Johnny | 5/18/2006
Tampa, FL
Chill, Julie | 4/20/2006
Orlando, FL
Chloros, Stacy | 5/18/2006
Iselin, NJ
Christian, Linda | 4/20/2006
Lakeland, FL
Clark, Susan | 4/20/2006
Soddy Daisy, TN
Cleveland, Brenda | 4/20/2006
Knoxville, TN
Coakley, Freddie | 5/18/2006
Fairfield, CA
Cole, Bridgett | 5/18/2006
Meridian, MS
Coleman, Necco | 4/20/2006
Laporte, CO
Colon, Duchess | 5/18/2006
Newport, RI
Cook, Constance | 4/20/2006
Marion, KY
Crittenden, John | 4/20/2006
Gulf Breeze, FL
Cudlipp, Frederick | 4/20/2006
Frederick, MD
Cunetta, Rose | 5/18/2006
Ramsey, NJ
Cunningham, Jane | 4/20/2006
Broken Arrow, OK
Cunningham, Peter | 5/18/2006
Ft. Collins, CO
Daniel, Heather | 5/18/2006
Virginia Beach, VA
Daniels, Aletha | 5/18/2006
Titusville, FL
Davis, Priscilla | 5/18/2006
Lakeland, FL
Day, Toni | 4/20/2006
Sacramento, CA
Deaton, Jennifer | 4/20/2006
Hazard, KY
Delaney, Christi | 5/18/2006
Madison, TN
Desposito-Barrera, Patricia | 4/20/2006
Fairbury, IL
Dickerson, Thomas | 5/18/2006
Kirkland, WA
Dimarco, Kathleen | 5/18/2006
Indian Rock Beach, FL
Dineen, Leonard | 5/18/2006
Phoenix, AZ
Dobben, Brenda | 4/20/2006
Michigan City, IN
Dominguez, Joanne | 4/20/2006
Ocean Springs, MS
Doxen, Francine | 5/18/2006
Bronx, NY
Dubow, Brian | 5/18/2006
Philadelphia, PA
Dunn, Richard | 5/18/2006
Richmond, VA
Durden, Kristin | 4/20/2006
Inverness, FL
Eastman, Melissa | 4/20/2006
Peoria, AZ
Egri, John | 5/18/2006
Lima, OH
Erby, Tanya | 4/20/2006
Institute, WV
Escajeda, Richard | 5/18/2006
San Diego, CA
Espinoza, Arturo | 4/20/2006
Victorville, CA
Evans, Kimberly | 5/18/2006
Phoenix, AZ
Fisher, Laticia | 5/18/2006
Holcomb, MS
Fox, Gladys | 4/20/2006
Rockwood, TN
Fralin, Randall | 5/18/2006
Chandler, AZ
Fraser, Diane | 5/18/2006
Pittsburgh, PA
Freeman, Christopher | 4/20/2006
Riverside, CA
Fretz, Lorraine | 4/20/2006
Hernando, FL
Fuller, Michael | 4/20/2006
Menomonie, WI
Funk, James | 4/20/2006
Long Beach, CA
Gabriel, Melissa | 5/18/2006
Charlotte, NC
Gainous, Anthony | 4/20/2006
Tallahassee, FL
Galyon, Debora | 4/20/2006
Athens, TN
Garibay, Elisandro | 5/18/2006
San Antonio, TX
George, Philomina | 4/20/2006
Bellrose, NY
Gibson, Kristen | 5/18/2006
Kennewick, WA
Gil, Lynn | 4/20/2006
Redondo Beach, CA
Gilkison, Jane | 4/20/2006
Lawrenceburg, KY
Goff, Denise | 4/20/2006
South Daytona, FL
Goodman, Cassandra | 4/20/2006
Naples, FL
Granados, Irene | 5/18/2006
Indio, CA
Graves, Carol | 4/20/2006
Zephyrhills, FL
Green, Pamela | 4/20/2006
Berry, KY
Greeson, Teresa | 4/20/2006
Palm Springs, FL
Gregory, Shelia | 5/18/2006
Ashland City, TN
Greig, Jean | 4/20/2006
Redmond, WA
Grissom, Elizabeth | 5/18/2006
Brookland, AR
Haddad, Emile | 5/18/2006
Seattle, WA
Haji, Mohammed | 5/18/2006
Bellevue, WA
Hale, Karry | 5/18/2006
Monticello, KY
Hardy, Misty | 5/18/2006
Roanoke, VA
Harvey, Teri | 4/20/2006
Havelock, IA
Hatman, Sandra | 5/18/2006
Yuma, AZ
Hegeman, Sandra | 5/18/2006
Middleboro, MA
Helms, Rochelle | 4/20/2006
Spokane, WA
Hernandez, Xander | 4/20/2006
Portland, OR
Herrera, Jose | 5/18/2006
Stanton, CA
Hickey, Colleen | 5/18/2006
Ormond Beach, FL
Hill, Rhonda | 4/20/2006
Bakersfield, CA
Hill, Sherri | 5/18/2006
Wilmington, NC
Hobal, Mary | 5/18/2006
Wilmington, MA
Holifield, Kenya | 5/18/2006
Laurel, MS
Holley, Theresa | 5/18/2006
Carthage, MS
Holliday, Mary | 4/20/2006
Lakeland, FL
Hollins, Debbie | 5/18/2006
Colorado Spgs, CO
Howard, Joseph | 4/20/2006
Chandler, AZ
Huff, John | 5/18/2006
Fairfield, IA
Husin, Patricia | 4/20/2006
Tucson, AZ
Iglesias, Gerald | 5/18/2006
Pleasant Hill, CA
Inman, Terrie | 4/20/2006
Asheville, NC
Jackson, Flora | 4/20/2006
Springfield, IL
Jackson, Laura | 4/20/2006
Englewood, FL
Jackson, Reita | 4/20/2006
Chattanooga, TN
James, Robert | 4/20/2006
Statesville, NC
Janey, Melissa | 4/20/2006
Collinsville, VA
Johnson, Nancy | 5/18/2006
Farmville, NC
Johnson, Shannon | 4/20/2006
Mesa, AZ
Jones, Patrice | 4/20/2006
Kure Beach, NC
Jones, Wanda | 4/20/2006
Athens, TN
Kady-Lopes, Mary | 5/18/2006
Falmouth, MA
Kanofsky, Dorrie | 4/20/2006
Ormond Beach, FL
Kilpatrick, Marella | 4/20/2006
Glendale, AZ
Kopitsky, Sylvia | 4/20/2006
Barstow, CA
Kwok, Kornell | 5/18/2006
Irvine, CA
Kwong, Heather | 4/20/2006
Redlands, CA
Langlois, Joan | 5/18/2006
Hudson, MA
Lasky, Phillip | 5/18/2006
Chicago, IL
Latimer, James | 4/20/2006
Madrid, NY
Le Poblete, Romeo | 5/18/2006
Irvine, CA
Lee, Chin-Hsiang | 5/18/2006
Rowland Heights, CA
Lenoue, Barbara | 4/20/2006
San Dimas, CA
Lesnik, Susan | 4/20/2006
Bluffton, SC
Levi, Orion | 4/20/2006
Sacramento, CA
Lewis, April | 4/20/2006
Bakersfield, CA
Leyen, Robert | 4/20/2006
Knoxville, TN
Leyva, Martha | 4/20/2006
Oxnard, CA
Ling, Nani | 5/18/2006
Honolulu, HI
Linkins, Hillary | 4/20/2006
Singer Island, FL
Loewen-Hays, Stacey | 5/18/2006
Hayden, ID
Lohr, David | 4/20/2006
Ogden, UT
London, Kevin | 4/20/2006
Dana Point, CA
Long, Christen | 4/20/2006
Yuma, AZ
Long, Lester | 4/20/2006
Lake Arrowhead, CA
Long, Philip | 4/20/2006
North Andover, MA
Lovely, Michelle | 4/20/2006
Lyndonville, VT
Lovett, Holly | 4/20/2006
Destin, FL
Lunsford, Debra | 5/18/2006
Jackson, MS
Lustenberger, Paul | 4/20/2006
Pocatello, ID
Macaraeg, Anita | 4/20/2006
Norco, CA
Macdougall, Marybeth | 5/18/2006
Milford, MA
Mackey, David | 5/18/2006
Blountstown, FL
Macklin, Ruth | 5/18/2006
Crossville, TN
Maghni, Maria | 4/20/2006
Orlando, FL
Magner, Suzanne | 5/18/2006
Plymouth, MA
Malate, Eleanor | 5/18/2006
Redwood City, CA
Manekin, Steven | 5/18/2006
White Marsh, MD
Manning, Sylvia | 5/18/2006
Cleveland, OH
Marruffo, Roxanne | 4/20/2006
Avondale, AZ
Martinez, Jan | 4/20/2006
St Petersburg, FL
Marvin, Terry | 5/18/2006
Athol, ID
Mbugua-Alexander, Lucy | 5/18/2006
Colton, CA
Mcpeeks, Malta | 4/20/2006
Kite, KY
Mcpherson, Virginia | 4/20/2006
North Tazewell, VA
Mcwilliams, Melissa | 4/20/2006
Pensacola, FL
Meadows, Mary | 4/20/2006
Somerset, KY
Mena, Elizabeth | 4/20/2006
Phoenix, AZ
Mendoza, Patricia | 4/20/2006
Campbell, CA
Miller, Kevin | 5/18/2006
Soddy Daisy, TN
Moceri-Taveira, Joanne | 5/18/2006
Gloucester, MA
Moore, Lindsay | 5/18/2006
Cape Coral, FL
Mott, Elizabeth | 4/20/2006
Kingman, AZ
Myers, Crystal | 4/20/2006
Largo, FL
Nash, James | 4/20/2006
Lake Arrowhead, CA
Nelson, Amy | 5/18/2006
Rossville, GA
New Day Pharmacy | 4/20/2006
Miami, FL
Nightingale, Daniel | 4/20/2006
Reno, NV
Nunns, Steven | 5/18/2006
North Fort Myers, FL
Nyman, Phillip | 4/20/2006
Rancho Santa Margarita, CA
Nzongo-Tobiasi, Kipulu | 5/18/2006
Seattle, WA
O'Donnell, Joseph | 5/18/2006
Fallbrook, CA
Oaks, Richard | 5/18/2006
Wenatchee, WA
Ogden, Charlien | 4/20/2006
Yuma, AZ
Oglesby, Eric | 5/18/2006
Monterey, CA
Ogundowole, Gbenga | 4/20/2006
Moreno Valley, CA
Olson, Tamara | 5/18/2006
Lake Hughes, CA
Pacheco, Janice | 5/18/2006
Fall River, MA
Parker, Mardee | 5/18/2006
Chesterland, OH
Parmer, Jerrold | 4/20/2006
Longmont, CO
Parsons, Tejay | 4/20/2006
Kennewick, WA
Patmon, Sherry | 5/18/2006
Columbus, MS
Perez, Tanelle | 5/18/2006
Las Vegas, NV
Phillips, Joy | 4/20/2006
Wabash, IN
Phillips, Margaret | 5/18/2006
Fredericksburg, VA
Placide, Jean | 5/18/2006
Fort Myers, FL
Platz, Lisa | 4/20/2006
Memphis, TN
Pluto, Angela | 5/18/2006
Uniontown, PA
Powermedica | 5/18/2006
Deerfield Beach, FL
Poynter, Christopher | 4/20/2006
Somerset, KY
Prado, Cresencia | 4/20/2006
Pittsburg, CA
Prats, Gail | 4/20/2006
Sierra Vista, AZ
Pressley, Constance | 5/18/2006
Talladega, AL
Prestage, Sheri | 4/20/2006
Morton, MS
Proudfit, Charles | 5/18/2006
St Augustine, FL
Putnam, Donna | 5/18/2006
Stuart, FL
R G Pharmacy, Inc | 5/18/2006
Miami, FL
Racki, Kelly | 5/18/2006
Ormond Beach, FL
Rademan, Alan | 4/20/2006
Beverly Hills, CA
Ragan, Berenda | 4/20/2006
Dickson, TN
Railback, Lucy | 4/20/2006
Glendale, AZ
Ralston, Craig | 4/20/2006
Tazewell, TN
Rancour, Tina | 5/18/2006
Paso Robles, CA
Rand, Phillip | 5/18/2006
San Diego, CA
Rattray, Heron | 4/20/2006
South Beach, NY
Reaves, Delaine | 5/18/2006
Pleasant Grove, AL
Redavid, Sandra | 5/18/2006
West Palm Beach, FL
Reddig, Jeanne | 5/18/2006
Benton, AR
Redwine, Angela | 5/18/2006
Wildwood, FL
Reed, Tammy | 5/18/2006
Jacksonville, FL
Reese, Carolyn | 5/18/2006
Birmingham, AL
Reese, Laurie | 5/18/2006
Panama City, FL
Reiheld, Mark | 4/20/2006
Thomaston, GA
Richardson, Lisa | 5/18/2006
Louisville, KY
Riddle, Lisa | 4/20/2006
Sanford, NC
Roark, Rita | 5/18/2006
Honaker, VA
Roberts, Edith | 5/18/2006
Riverview, FL
Robertson, Phillip | 5/18/2006
Ft Payne, AL
Robison, Judith | 4/20/2006
Walla Walla, WA
Rowland, Cynthia | 4/20/2006
Carrollton, KY
Rutherford, David | 5/18/2006
Clearwater, FL
Ryan, Susan | 5/18/2006
Fort Lauderdale, FL
Samuelson, Dean | 4/20/2006
Topeka, KS
Samways, Lynn | 4/20/2006
Port St Lucie, FL
Sandifer, Tereia | 5/18/2006
Dutton, AL
Saville, Dorothee | 4/20/2006
Pacheco, CA
Saylor, Gary | 5/18/2006
Richmond, KY
Schempp, Joanne | 5/18/2006
N Royalton, OH
Scolaro, Michael | 5/18/2006
Los Angeles, CA
Selhorst, Daneen | 4/20/2006
Louisville, KY
Shiverdeck, Debra | 4/20/2006
Dupo, IL
Shoemaker, Carol | 5/18/2006
Youngstown, OH
Shook, Faith | 5/18/2006
Las Vegas, CA
Sievers, Robert | 4/20/2006
Sioux City, IA
Smith, Donald | 5/18/2006
Orange, CA
Smith, Jerome | 4/20/2006
Tempe, AZ
Smith-Carter, Evelyn | 5/18/2006
Bentonville, AR
Spaulding, Evelyn | 4/20/2006
Loveland, CO
Stewart, Mary | 5/18/2006
Canton, MS
Storin, Kelly | 4/20/2006
Dania, FL
Strauss, Leslie | 4/20/2006
East Wiathrop, ME
Sutherland, Lee | 5/18/2006
Elk Creek, VA
Sweetland, Elmer | 5/18/2006
Essex Junction, VT
Theall, Stacey | 5/18/2006
North Easton, MA
Thibeau, Robin | 5/18/2006
Yarmouthport, MA
Thomas, Frederick | 5/18/2006
Orlando, FL
Tibbs, Jerry | 5/18/2006
San Diego, CA
Turner, Mark | 5/18/2006
Desoto, TX
Tyree, Sandra | 5/18/2006
Waddell, AZ
Varela, Sally | 5/18/2006
Orlando, FL
Vezele, Garmai | 5/18/2006
Providence, RI
Villareal, Seth | 5/18/2006
Phoenix, AZ
Vivanco, Felipe | 4/20/2006
Corona Del Mar, CA
Walden, Lorraine | 4/20/2006
Scottsdale, AZ
Walker, Sharon | 5/18/2006
Newville, AL
Walker, Victoria | 5/18/2006
Los Angeles, CA
Walter, Laura | 4/20/2006
Schererville, IN
Ward, Dana | 5/18/2006
Tacoma, WA
Waters, Jerome | 5/18/2006
Miami, FL
Webb, Mark | 4/20/2006
Brentwood, TN
Wells, Lisa | 5/18/2006
Muscle Shoals, AL
Wheatley, Joseph | 4/20/2006
Marietta, GA
Wheeler, David | 5/18/2006
Springfield, OR
White, Michael | 4/20/2006
Perryville, KY
White, Teresa | 5/18/2006
Meridian, MS
Williams, Laura | 5/18/2006
Tallahassee, FL
Williams, Olivia | 4/20/2006
Compton, CA
Wills, Craig | 4/20/2006
Riverside, CA
Winters, Jennifer | 4/20/2006
Knoxville, TN
Wood, Dewey | 4/20/2006
Russellville, KY
Wood, Martha | 4/20/2006
Philadephia, MS
Woodall, Danny | 4/20/2006
Huntsville, TX
Wright, Amanda | 4/20/2006
Largo, FL
Wunderlin, Kyle | 5/18/2006
Lewisburg, TN
Wynn, Dottie | 5/18/2006
Nashville, TN
Zeagler, Virginia | 5/18/2006
Hartselle, AL
Zujko, Richard | 4/20/2006
Liberal, KS
Federal/State Exclusion/Suspension
Cotton, Beverly | 5/18/2006
Missouri City, TX
Terrell, D'andrea | 5/18/2006
Missouri City, TX
Fraud/Kickbacks/Prohibited Acts/Settlement Agreements
Pyemag Insurance And Trust | 7/15/2002 | Eglin Afb, FL
Owned/Controlled by Convicted Entities
American Physical Therapy & Sports Medicine Clinic, Ltd | 4/20/2006
Chicago, IL
C & M Community Therapeutic Center Inc | 4/20/2006
Fort Worth, TX
Comerio Ambulance Service | 5/18/2006
Bayamon, PR
Gateway To Health Rehabilitation Inc | 5/18/2006
Pembroke Pines, FL
J F Waters, P A | 5/18/2006
Miami, FL
Jeffrey Nabatmama, Inc | 5/18/2006
Los Angeles, CA
Nazareno Dental Center, Inc | 4/20/2006
Coral Gables, FL
Toddler Transport, Inc | 4/20/2006
Topeka, KS
Total Health Center | 4/20/2006
Cedar City, UT
Default on Heal Loan
Greenwood, Kerry | 3/6/2006
Rockford, MI
Inesi, Gino | 4/20/2006
San Francisco, CA
Leonard, Susan | 4/20/2006
Provincetown, MA
Ramos, Steven | 5/18/2006
Lincoln, MA
Romero, Gloriana | 5/18/2006
Trujillo Alto, PR
Slusher-Maroudas, Patricia | 4/20/2006
Gilroy, CA
Whitehall, Judith | 4/20/2006
Crockett, CA

Dated: May 1, 2006.
Susan Earp,
Acting Director, Exclusions Staff, Office of Inspector General.

[FR Doc. E6-7248 Filed 5-11-06; 8:45 am]

BILLING CODE 4152-01-P